DEPARTMENT OF ENERGY

DOE Response to Recommendation 2000-2 of the Defense Nuclear Facilities Safety Board, Configuration Management, Vital Safety Systems

AGENCY: Department of Energy.

ACTION: Notice.

SUMMARY: The Defense Nuclear Facilities Safety Board Recommendation 2000-2, concerning the control of safety system configuration, was published in the Federal Register on March 16, 2000 (65 FR 14255). Under section 315(b) of the Atomic Energy Act of 1954, as amended, 42 U.S.C. 2286d(b), the Department of Energy was required to transmit a response to the Defense Nuclear Facilities Safety Board by April 28, 2000. The Secretary's timely response follows.

DATES: Comments, data, views, or arguments concerning the Secretary's response are due on or before June 21, 2000.

ADDRESSES: Send comments, data, views, or arguments concerning the Secretary's response to: Defense Nuclear Facilities Safety Board, 625 Indiana Avenue NW, Suite 700, Washington, DC 20004.

FOR FURTHER INFORMATION CONTACT: Mr. Steve Cary, Senior Advisor to the Assistant Secretary for Environment, Safety and Health, Department of Energy, 1000 Independence Avenue SW, Washington, DC 20585.

Issued in Washington, DC on April 28, 2000.
Michael A. Mikolanis,
Office of the Departmental Representative to the Defense Nuclear Facilities Safety Board.

The Honorable John T. Conway, Chairman, Defense Nuclear Facilities Safety Board, 625 Indiana Avenue, NW, Suite 700, Washington, DC 20004-2901

Dear Mr. Chairman: The Department of Energy (DOE) acknowledges receipt of Defense Nuclear Facilities Safety Board (Board) Recommendation 2000-2, issued on March 8, 2000, regarding safety systems vital to the protection of the public, workers, and the environment. Along with the analysis contained in the March 2000 assessment prepared by the Office of the Assistant Secretary for Environment, Safety and Health on the impact of safety program weaknesses upon ventilation and confinement ventilation systems that perform safety functions, the DOE has completed a preliminary analysis of the issues raised in the Board's recommendation. The conclusions drawn from both of these analyses are consistent with the safety issues described in Recommendation 2000-2.

The Department accepts the recommendations contained in Recommendation 2000-2 and will develop an implementation plan to accomplish the following actions:

1. Development of expert-based guidelines for surveying and assessing confinement ventilation systems and implementation of a plan to identify and correct root cause deficiencies.

2. Incorporation of open commitments remaining in the action plan addressing safety issues related to High Efficiency Particulate Air filters.

3. Evaluation of existing practices and industry models for use in establishing a cognizant system engineer concept to strengthen the engineering resources available for facility configuration management.

4. Assessment of the availability and sufficiency of DOE expertise, identification of actions necessary to ensure expertise can be brought to bear in the life-cycle management of vital safety systems and that Federal technical expertise on safety systems is available to interface with operating contractors when significant system problems arise.

5. Review of line oversight of contractor programs to determine whether safety systems, as well as programs essential to system operability, are being included in those programs. As necessary, identify corrective actions to improve implementation of line oversight programs.

I have asked Mr. Steven Cary, Senior Advisor to the Assistant Secretary for Environment, Safety and Health, to serve as the responsible manager for this recommendation. Mr. Cary will be the principal point of contact with the Board for this recommendation, and he will work with you and your staff to develop an acceptable implementation plan that meets our mutual expectations. If you have questions, please contact him at (202) 586-6151.

Yours sincerely,

Bill Richardson

[FR Doc. 00-12761 Filed 5-19-00; 8:45 am]

BILLING CODE 6450-01-P